DEPARTMENT OF ENERGY

Federal Energy Regulatory Commission

[Project No. 13287-004]

City of New York; Notice of Scoping Meetings and Environmental Site Review and Soliciting Scoping Comments

Take notice that the following hydroelectric application has been filed with Commission and is available for public inspection:

a. Type of Application: Major project, existing dam.

b. Project No.: 13287-004.

c. Date filed: February 29, 2012.

d. Applicant: City of New York.

e. Name of Project: Cannonsville Hydroelectric Project.

f. Location: On the West Branch of the Delaware River, near the Township of Deposit, Delaware County, New York. The project does not occupy any federal lands.

g. Filed Pursuant to: Federal Power Act, 16 U.S.C. 791(a)-825(r).

h. Applicant Contact: Anthony J. Fiore, Chief of Staff—Operations, New York City Department of Environmental Protection, 59-17 Junction Blvd., Flushing, NY 11373-5108, (718) 595-6529 or afiore@dep.nyc.gov.

i. FERC Contact: John Mudre, (202) 502-8902 or john.mudre@ferc.gov.

j. Deadline for filing scoping comments: July 13, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. Project facilities would include: (1) An existing 2,800-foot-long, 45-foot-wide earthen embankment dam with a crest elevation of 1,175.0 feet above mean sea level; (2) an existing 800-foot-long stone masonry spillway; (3) an existing 12-mile-long, 4,670-acre impoundment (Cannonsville Reservoir); (4) four proposed penstocks branching from an existing 12-foot-diameter intake; (5) a proposed 168-foot-long by 54-foot-wide powerhouse containing four horizontal shaft Francis generating units; (6) a proposed tailrace occupying approximately one acre; (7) a proposed transmission system consisting of a 150-foot-long underground and 1,200-foot-long overhead 12.47-kilovolt (kV) line, a substation, and a 460-foot-long overhead 46-kV line; and (8) appurtenant facilities. The project would have a total installed capacity of 14.08 megawatts and would generate approximately 42,281 megawatt-hours of electricity annually.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission intends to prepare an Environmental Assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Wednesday, June 13, 2012.

Time: 1:00 p.m.

Place: Homewood Suites Hotel.

Address: 3603 Vestal Parkway East, Vestal, NY.

Public Scoping Meeting

Date: Wednesday June 13, 2012.

Time: 7:00 p.m.

Place: Walton Veterans Club.

Address: 10 Park Street, Walton, NY.

Copies of the Scoping Document (SD1) outlining the subject areas to be addressed in the EA are being distributed to the parties on the Commission's mailing list and the applicant's distribution list. Copies of the SD1 will be available at the scoping meeting or may be viewed on the web at http://www.ferc.gov using the “eLibrary” link (see item m above).

Environmental Site Review

The Applicant and FERC staff will conduct a project Environmental Site Review beginning at 10:00 a.m. on Wednesday June 13, 2012. All interested individuals, organizations, and agencies are invited to attend. All participants should meet in the parking lot at the Cannonsville Dam at 10:00 a.m. The dam is located about 4 miles east of the town of Deposit, New York on State Highway 10. All participants are responsible for their own transportation to the site. Anyone with questions about the Environmental Site Review (or needing directions) should contact Ms. Zinnia Rodriguez at (718) 595-6553, or zinniar@dep.nyc.gov. Those individuals planning to participate in the Environmental Site Review should notify Ms. Zinnia of their intent no later than June 6, 2012.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meetings and to assist the staff in defining and clarifying the issues to be addressed in the EA.

Dated: May 14, 2012.
Kimberly D. Bose,
Secretary.

[FR Doc. 2012-12070 Filed 5-17-12; 8:45 am]

BILLING CODE 6717-01-P